DEPARTMENT OF STATE

[Public Notice 8288]

Removal of Sanctions on Person on Whom Sanctions Have Been Imposed Under the Iran Sanctions Act of 1996, as Amended

AGENCY: Department of State.

ACTION: Notice.

SUMMARY: The Secretary of State has determined and certified to Congress that the following persons are no longer engaging in sanctionable activity described in section 5(a) of the Iran Sanctions Act of 1996 (Pub. L. 104-172) (50 U.S.C. 1701 note) (“ISA”), as amended, and that these persons have provided reliable assurances that they will not knowingly engage in such activities in the future. Therefore, certain sanctions that were imposed on on Allvale Maritime Inc., Société Anonyme Monégasque D'Administration Maritime Et Aérienne, and Tanker Pacific Management (Singapore) Pte. Ltd. on August 26, 2011 are hereby lifted.

DATES: Effective Date: The sanctions on Allvale Maritime Inc., Société Anonyme Monégasque D'Administration Maritime Et Aérienne, and Tanker Pacific Management (Singapore) Pte. Ltd. are lifted effective April 12, 2013.

FOR FURTHER INFORMATION CONTACT: On general issues: Office of Sanctions Policy and Implementation, Department of State, Telephone: (202) 647-7489.

SUPPLEMENTARY INFORMATION: On September 14, 2011, the Department of State issued a public notice that the Secretary of State made a determination to impose certain sanctions on, inter alia, Allvale Maritime Inc., Société Anonyme Monégasque D'Administration Maritime Et Aérienne, and Tanker Pacific Management (Singapore) Pte. Ltd. under the Iran Sanctions Act of 1996, as amended (Pub. L. 104-172) (50 U.S.C. 1701 note). 76 FR 56866.

At that time, pursuant to section 5(a) of the ISA and the authority delegated to the Secretary of State in the Presidential Memorandum of September 23, 2010, 75 FR 67025 (the “Delegation Memorandum”), the Secretary determined to impose on Allvale Maritime Inc., Société Anonyme Monégasque D'Administration Maritime Et Aérienne, and Tanker Pacific Management (Singapore) Pte. Ltd. the following sanctions described in section 6 of the ISA:

1. Export-Import Bank assistance for exports to sanctioned persons. The Export-Import Bank of the United States shall not give approval to the issuance of any guarantee, insurance, extension of credit, or participation in the extension of credit in connection with the export of any goods or services to Allvale Maritime Inc., Société Anonyme Monégasque D'Administration Maritime Et Aérienne, or Tanker Pacific Management (Singapore) Pte. Ltd.

2. Export sanction. The United States Government shall not issue any specific license and shall not grant any other specific permission or authority to export any goods or technology to Allvale Maritime Inc., Société Anonyme Monégasque D'Administration Maritime Et Aérienne, or Tanker Pacific Management (Singapore) Pte. Ltd. under—

a. The Export Administration Act of 1979 (50 U.S.C. Appx. 2401 et seq.);

b. The Arms Export Control Act (22 U.S.C. 2751 et seq.);

c. The Atomic Energy Act of 1954 (42 U.S.C. 2011 et seq.); or

d. Any other statute that requires the prior review and approval of the United States Government as a condition for the export or reexport of goods or services.

3. Loans from U.S. financial institutions: United States financial institutions shall be prohibited from making loans or providing credits to Allvale Maritime Inc., Société Anonyme Monégasque D'Administration Maritime Et Aérienne, or Tanker Pacific Management (Singapore) Pte. Ltd. totaling more than $10,000,000 in any 12-month period unless such persons are engaged in activities to relieve human suffering and the loans or credits are provided for such activities.

Pursuant to section 9(b)(2) of the ISA and the authority delegated to the Secretary of State in the Delegation Memorandum, the Secretary now has determined and certified to Congress that Allvale Maritime Inc., Société Anonyme Monégasque D'Administration Maritime Et Aérienne, and Tanker Pacific Management (Singapore) Pte. Ltd. are no longer engaging in sanctionable activity described in section 5(a) of the ISA, as amended, and that these persons have provided reliable assurances that they will not knowingly engage in such activities in the future. The Secretary, therefore, has determined to lift the above-referenced sanctions imposed on Allvale Maritime Inc. Société Anonyme Monégasque D'Administration Maritime Et Aérienne, and Tanker Pacific Management (Singapore) Pte. Ltd.

The sanctions described above with respect to each of the persons listed are no longer in effect. Pursuant to the authority delegated to the Secretary of State in the Delegation Memorandum, relevant agencies and instrumentalities of the United States Government shall take all appropriate measures within their authority to carry out the provisions of this notice.

The following constitutes a current, as of this date, list of persons on whom sanctions are imposed under the ISA. The particular sanctions imposed on an individual person are identified in the relevant Federal Register Notice.

—Associated Shipbroking (a.k.a. SAM) (see Public Notice 7585, 76 FR 56866, September 14, 2011)

—Belarusneft (see Public Notice 7408, 76 FR 18821, April 5, 2011)

—Bimeh Markazi-Central Insurance of Iran

—Cambis, Dimitris

—FAL Oil Company Limited (see Public Notice 7776, 77 FR 4389, Jan. 27, 2012)

—Impire Shipping

—Kish Protection and Indemnity (a.k.a. Kish P&I)

—Kuo Oil (S) Pte. Ltd. (see Public Notice 7776, 77 FR 4389, Jan. 27, 2012)

—Naftiran Intertrade Company (see Public Notice 7197, 75 FR 62916, Oct. 13, 2010)

—Petrochemical Commercial Company International (a.k.a. PCCI) (see Public Notice 7585, 76 FR 56866, September 14, 2011)

—Petro´leos de Venezuela S.A. (see Public Notice 7585, 76 FR 56866, September 14, 2011)

—Royal Oyster Group (see Public Notice 7585, 76 FR 56866, September 14, 2011)

—Speedy Ship (a.k.a. SPD) (see Public Notice 7585, 76 FR 56866, September 14, 2011)

—Sytrol (see Public Notice 8040, XX FR XXXXX, September 18, 2012)

—Zhuhai Zhenrong Company (see Public Notice 7776, 77 FR 4389, Jan. 27, 2012)

Dated: April 12, 2013.
William E. Craft,
Acting Assistant Secretary for Economic and Business Affairs.

[FR Doc. 2013-09250 Filed 4-18-13; 8:45 am]

BILLING CODE 4710-07-P